DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before December 6, 2010.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Acting Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: September 30, 2010.
James Hyler,
Acting Director, Information Collection Clearance Division, Regulatory Information Management Services, Office of Management.

Institute of Education Sciences

Type of Review: New.

Title of Collection: Integrated Evaluation of ARRA Funding, Implementation and Outcomes.

OMB Control Number: Pending.

Agency Form Number(s): N/A.

Frequency of Responses: One time.

Affected Public: State, Local, or Tribal Government, State Educational Agencies or Local Educational Agencies.

Total Estimated Number of Annual Responses: 5,551.

Total Estimated Number of Annual Burden Hours: 1,774.

Abstract: On February 17, 2009, President Obama signed the American Recovery and Reinvestment Act (ARRA) into law (Pub. L. 111-50). ARRA supports investments in innovative strategies that are intended to lead to improved results for students, long-term gains in school and local education agency (LEA) capacity for success, and increased productivity and effectiveness.

This evaluation will focus on answering four sets of research questions:

• Money: Which states/districts/schools get which program funds, when, and how much? What do they spend it on? How much overlap is there across ARRA funding streams in terms of who receives the funding or what grantees do with it?

• Strategies: What efforts and activities are underway as a result of each of the ARRA programs and overall? What state policies are changing or being enacted? What specific interventions are districts and schools implementing? How do the strategies line up with the four assurances or with the specific strategies promoted by the different programs?

• Implementation Process: How much coordination do states and districts report in the decision-making and planning for implementation across the various streams of funds? Are districts that receive funds directly (e.g., thru I3) employing strategies that are consistent with their state's policies and plans (e.g., under Race to the Top)? On an ongoing basis, what challenges do grantees face in enacting their plans and what successes have they had?

• Outcomes: Is receiving more ARRA funds or certain types of funds associated with improvement in student outcomes or other key measures (e.g., more equitable distribution of teacher quality)?

The integrated evaluation will draw on existing data, including ED data collections, ED ARRA program files, ARRA required reporting, and databases of achievement and other outcomes. The evaluation will also collect new information through surveys of (1) The 50 states and the District of Columbia, (2) a nationally representative sample of school districts, and (3) a nationally representative sample of schools within the sampled school districts. Surveys are planned for spring 2011, spring 2012, and spring 2013. Subsamples of school districts will also be drawn to receive a smaller set of questions (polls); these polls will be administered twice between 2011 and 2013.

A report will be prepared in the first year of the evaluation to describe the distribution of funding. A report and state tabulations will be prepared after each annual survey. The first report, based on the 2011 surveys, will focus on early ARRA implementation and strategies. The second report, based on the 2012 surveys, will expand upon strategies implemented under ARRA. The final report will draw upon existing data on outcomes as well as data from the 2013 surveys.

Requests for copies of the proposed information collection request may be accessed from http://edicsweb.ed.gov, by selecting the “Browse Pending Collections” link and by clicking on link number 4413. When you access the information collection, click on “Download Attachments” to view. Written requests for information should be addressed to U.S. Department of Education, 400 Maryland Avenue, SW., LBJ, Washington, DC 20202-4537.

Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2010-25153 Filed 10-5-10; 8:45 am]

BILLING CODE 4000-01-P